DEPARTMENT OF COMMERCE

National Oceanic and Atmospheric Administration

[I.D. 090204A]

Endangered Species; File No. 1418

AGENCY: National Marine Fisheries Service (NMFS), National Oceanic and Atmospheric Administration (NOAA), Commerce.

ACTION: Receipt of application for modification

SUMMARY: Notice is hereby given that Lawrence D. Wood, Marine Life Center of Juno Beach, 14200 U.S. Hwy. #1, Juno Beach, FL 33408, has requested a modification to scientific research Permit No. 1418.

DATES: Written, telefaxed, or e-mail comments must be received on or before October 12, 2004.

ADDRESSES: The modification request and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1418.

FOR FURTHER INFORMATION CONTACT: Patrick Opay or Amy Sloan, (301)713-2289.

SUPPLEMENTARY INFORMATION: The subject modification to Permit No. 1418, issued on January 14, 2004 (69 FR 2118) is requested under the authority of the Endangered Species Act of 1973, as amended (16 U.S.C. 1531 et seq.) and the regulations governing the taking, importing, and exporting of endangered and threatened species (50 CFR 222-226).

Permit No. 1418 authorizes the permit holder to study the abundance and distribution of hawksbill (Eretmochelys imbricata) sea turtles in the waters of Palm Beach County, FL. The purpose of this project is to support hawksbill recovery efforts by surveying the local population to document the distribution and movement of individuals in these waters. The permit holder requests authorization to blood sample each of the 75 hawksbill sea turtles already authorized to be captured. The blood samples will allow researchers to determine the sex of the turtles in order to more accurately characterize the population.

Dated: September 3, 2004.
Amy C. Sloan,
Acting Chief, Permits, Conservation and Education Division, Office of Protected Resources, National Marine Fisheries Service.

[FR Doc. 04-20470 Filed 9-8-04; 8:45 am]

BILLING CODE 3510-22-S